DEPARTMENT OF HEALTH AND HUMAN SERVICES

Centers for Medicare & Medicaid Services

[Document Identifier: CMS-10209 and CMS-10102]

Agency Information Collection Activities: Submission for OMB Review; Comment Request

AGENCY: Centers for Medicare & Medicaid Services, Health and Human Services (HHS).

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information, including each proposed extension or reinstatement of an existing collection of information, and to allow a second opportunity for public comment on the notice. Interested persons are invited to send comments regarding the burden estimate or any other aspect of this collection of information, including the necessity and utility of the proposed information collection for the proper performance of the agency's functions, the accuracy of the estimated burden, ways to enhance the quality, utility, and clarity of the information to be collected, and the use of automated collection techniques or other forms of information technology to minimize the information collection burden.

DATES: Comments on the collection(s) of information must be received by the OMB desk officer by July 19, 2021.

ADDRESSES: Written comments and recommendations for the proposed information collection should be sent within 30 days of publication of this notice to www.reginfo.gov/public/do/PRAMain. Find this particular information collection by selecting “Currently under 30-day Review—Open for Public Comments” or by using the search function.

To obtain copies of a supporting statement and any related forms for the proposed collection(s) summarized in this notice, you may make your request using one of following:

1. Access CMS' website address at: https://www.cms.gov/Regulations-and-Guidance/Legislation/PaperworkReductionActof1995/PRA-Listing.html

FOR FURTHER INFORMATION CONTACT: William Parham at (410) 786-4669.

SUPPLEMENTARY INFORMATION: Under the Paperwork Reduction Act of 1995 (PRA) (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA (44 U.S.C. 3506(c)(2)(A)) requires federal agencies to publish a 30-day notice in the Federal Register concerning each proposed collection of information, including each proposed extension or reinstatement of an existing collection of information, before submitting the collection to OMB for approval. To comply with this requirement, CMS is publishing this notice that summarizes the following proposed collection(s) of information for public comment:

1. Type of Information Collection Request: Revision of a currently approved collection; Title of Information Collection: Medicare Advantage Chronic Care Improvement Program (CCIP) Attestations; Use: Section 1852(e) of the Social Security Act (the Act) requires that Medicare Advantage (MA) organizations (MAOs) have an ongoing Quality Improvement (QI) Program. CMS regulations at 42 CFR 422.152(a) outline the QI Program requirements for MAOs, which include the development and implementation of a Chronic Care Improvement Program (CCIP) that meets the requirements of 422.152(c) for each contract.

MAOs must use the Health Plan Management System (HPMS) to report the status of their CCIP to CMS by December 31 annually. Submissions include an attestation by the MAO regarding its compliance with the ongoing CCIP requirement (42 CFR 422.152(c)(2)). MAOs are only required to attest electronically that they are complying with the ongoing CCIP requirement. In addition, MAOs should assess and internally document activities related to the CCIP on an ongoing basis, as well as modify interventions and/or processes as necessary. A less frequent collection would not allow CMS to ensure that annual requirements are being met. This collection allows CMS to ensure that annual requirements are still being met, while also reducing plan burden. Form Number: CMS-10209 (OMB Control number: 0938-1023); Frequency: Annually; Affected Public: Private Sector—Business or other for-profits; Number of Respondents: 645; Total Annual Responses: 645; Total Annual Hours: 161. (For policy questions regarding this collection contact Lynn Pereira at 410-786-2274)

2. Type of Information Collection Request: Extension of a currently approved collection; Title of Information Collection: National Implementation of Hospital Consumer Assessment of Healthcare Providers and Systems (HCAHPS); Use: The HCAHPS (Hospital Consumer Assessment of Healthcare Providers and Systems) Survey is the first national, standardized, publicly reported survey of patients' perspectives of their hospital care. HCAHPS is a 29-item survey instrument and data collection methodology for measuring patients' perceptions of their hospital experience. Since 2008, HCAHPS has allowed valid comparisons to be made across hospitals locally, regionally and nationally.

The national implementation of HCAHPS is designed to allow third-party CMS-approved survey vendors to administer HCAHPS using mail-only, telephone-only, mixed-mode (mail with telephone follow-up), or active IVR (interactive voice response). With respect to a telephone-only or mixed-mode survey, the CMS-approved survey vendors use electronic data collection or CATI systems. CATI is also used for telephone follow-up with mail survey non-respondents. With respect to IVR survey administration, the IVR technology gathers information from respondents by prompting respondents to answer questions by pushing the numbers on a touch-tone telephone. Patients selected for IVR mode are able to opt out of the interactive voice response system and return to a “live” interviewer if they wish to do so. Form Number: CMS-10102 (OMB control number: 0938-0981); Frequency: Occasionally; Affected Public: Individuals and Households; Number of Respondents: 2,843,617; Total Annual Responses: 2,843,617; Total Annual Hours: 347,648. (For policy questions regarding this collection contact William Lehrman at 410-786-1037.)

Dated: June 14, 2021.
William N. Parham, III,
Director, Paperwork Reduction Staff, Office of Strategic Operations and Regulatory Affairs.

[FR Doc. 2021-12828 Filed 6-16-21; 8:45 am]

BILLING CODE 4120-01-P